DEPARTMENT OF HEALTH AND HUMAN SERVICES

National Institutes of Health

Proposed Collection; 60-Day Comment Request; Application and Impact of Clinical Research Training on Healthcare Professionals in Academia and Clinical Research (Office of the Director)

AGENCY: National Institutes of Health, HHS.

ACTION: Notice.

SUMMARY: In compliance with the requirement of the Paperwork Reduction Act of 1995 to provide opportunity for public comment on proposed data collection projects, the Office of Clinical Research Education and Collaboration Outreach (OCRECO), Office of Intramural Research (OIR), National Institutes of Health, will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Ahmed M. Gharib, Program Director, Office of Clinical Research Education and Collaboration Outreach, NIH Office of the Director, Building 1, Room 201, MSC-0155, Bethesda, Maryland 20892 or email your request, including your address to: ocreco-education@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Application and Impact of Clinical Research Training on Healthcare Professionals in Academia and Clinical Research, 0925-0764, exp., date 07/31/2027, Revision, Office of Clinical Research Education and Collaboration Outreach (OCRECO), Office of Intramural Research (OIR), National Institutes of Health (NIH), Office of the Director (OD).

Need and Use of Information Collection: The purpose of these revised surveys is to continue to assess the long-term impact and outcomes of clinical research training programs provided by the Office of Clinical Research Education and Collaboration Outreach, located in the Office of Intramural Research, over a ten-year follow-up period. The information received from respondents will continue to provide insight on the following: impact of the courses on (a) promotion of professional competence, (b) research productivity and independence, and (c) future career development within clinical, translational and academic research settings. These surveys will continue to provide preliminary data and guidance in (1) developing recommendations for collecting outcomes to assess the effectiveness of the training courses, and (2) tracking the impact of the curriculum on participants' ability to perform successfully in academic, non-academic, research, and non-research settings.

This revision request is comprised of the addition of 4 new surveys: two application surveys for two new certificate programs and two generic/template surveys for additional courses as part of the clinical research education programs of the office. The clinical research education programs include: the Introduction to the Principles and Practice of Clinical Research and Principles of Clinical Pharmacology, Sabbatical in Clinical Research Management, the NIH Summer Course in Clinical and Translational Research, the Ethical and Regulatory Aspects of Clinical Research Course (Asynchronous/Online), the Clinical Research Curriculum Certificate Program, the Radiology Research Certificate Program, and additional future courses.

OMB revision request approval is requested for 3 years. There are no costs to respondents other than their time. The total estimated annualized burden hours are 2,723.

Estimated Annualized Burden Hours
Form name | Type of respondents | Estimated number of respondents | Number of responses per respondent | Average burden per response (in hours) | Total annual burden hours
OCRECO Learning Portal Registration (Attachment 1) | Healthcare Professionals General Public | 5,000 15,000 | 1 1 | 5/60 5/60 | 417 1,250
IPPCR Lecture Evaluation (Attachment 2) | Healthcare Professionals General Public | 2,000 5,000 | 1 1 | 5/60 5/60 | 167 417
IPPCR Final Course Evaluation (Attachment 4) | Healthcare Professionals General Public | 300 500 | 1 1 | 5/60 5/60 | 25 42
PCP Lecture Evaluation (Attachment 3) | Healthcare Professionals General Public | 1,000 3,000 | 1 1 | 3/60 3/60 | 50 150
PCP Final Course Evaluation (Attachment 5) | Healthcare Professionals General Public | 200 400 | 1 1 | 3/60 3/60 | 10 20
NIH Summer Course in Clinical and Translational Research Course Evaluation (Attachment 6) | Healthcare Professionals | 20 | 1 | 5/60 | 2
Sabbatical in Clinical Research Management Course Evaluation (Attachment 7) | Healthcare Professionals | 20 | 1 | 5/60 | 2
Ethical and Regulatory Aspects of Clinical Research (Asynchronous/Online) Final Course Evaluation (Attachment 8) | Healthcare Professionals General Public | 500 1,000 | 1 1 | 5/60 3/60 | 25 50
Clinical Research Curriculum Certificate Program Application (Attachment 10) | Healthcare Professionals | 100 | 1 | 5/60 | 8
Radiology Research Certificate Program Application (Attachment 10) | Healthcare Professionals | 20 | 1 | 5/60 | 2
Generic Lecture Evaluation (Attachment 11) | Healthcare Professionals General Public | 500 1,000 | 1 1 | 3/60 3/60 | 25 50
Generic Final Course Evaluation (Attachment 12) | Healthcare Professionals General Public | 100 150 | 1 1 | 3/60 3/60 | 5 8
Total |  |  | 35,810 |  | 2,723

Ahmed M. Gharib,
Project Clearance Liaison, Office of the Director, National Institutes of Health.

[FR Doc. 2025-21913 Filed 12-3-25; 8:45 am]

BILLING CODE 4140-01-P